DEPARTMENT OF HEALTH AND HUMAN SERVICES

Centers for Disease Control and Prevention

[14Day-05-AR]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer at (404) 371-5978. CDC is requesting an emergency clearance for this data collection with a fourteen-day public comment period. CDC is requesting OMB approval of this package fourteen days after the end of the public comment period.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. As this is an emergency clearance, please direct comments to the CDC Desk Officer, Human Resources and Housing Branch, New Executive Office Building, Room 10235, Washington, DC 20503 or by fax to (202) 395-6974. Comments should be received within fourteen days of this notice.

Proposed Project

Operations and Scope of Public Sexually Transmitted Disease (STD) Clinics in the U.S. States and Territories—New—National Center for HIV, STD, and TB Prevention (NCHSTP), Centers for Disease Control and Prevention (CDC).

Many clinics around the United States (U.S.) provide care specifically targeted toward people infected with or at risk for sexually transmitted diseases. These clinics are an important community resource in many areas because they provide specialized, affordable, expert care for clients. However, little is known about the number of public clinics in the U.S. that offer categorical STD services, their geographical location, or the range and quality of services offered. Understanding the characteristics and range of public STD clinics in the U.S. and the communities they serve will provide important information about access to STD care in the public setting, as well as identify needed resources. The location of clinics can be compared to local population size and STD morbidity to assess coverage. In addition, clinic information can be used to supplement the referral database for the CDC National STD and AIDS Hotline; to assist the STD clinics in networking with each other; and to provide professionals working with STDs a more accurate and well-rounded national picture of the clinics and the communities they serve. Additional information can also be gathered to assist in developing recommendations, guidelines, programs, and activities.

CDC proposes to mail a brief survey to approximately 2,800 public health clinics in the United States regarding the range of services offered at the clinics, source of their funding, and composition of clinic staff. Respondents will be provided a stamped addressed envelope to return the survey. The only cost to respondents is their time to complete the survey.

Respondents | Number of respondents | Number of responses per respondent | Average burden per response (in hours) | Total burden (in hours)
Public Health Clinics | 2,800 | 1 | 15/60 | 700
Total |  |  |  | 700

Dated: December 29, 2004.
Alvin Hall,
Director, Management Analysis and Services Office, Centers for Disease Control and Prevention.

[FR Doc. 05-410 Filed 1-7-05; 8:45 am]

BILLING CODE 4163-18-P